DEPARTMENT OF ENERGY

Federal Energy Regulatory Commission

Combined Notice of Filings

Take notice that the Commission has received the following Natural Gas Pipeline Rate and Refund Report filings:

Filings Instituting Proceedings

Docket Number: PR16-71-000.

Applicants: Columbia Gas of Ohio, Inc.

Description: Tariff filing per 284.123(b)(1)/.: COH August 29 2016 SOC to be effective 8/29/2016; Filing Type: 980.

Filed Date: 9/9/2016.

Accession Number: 201609095151.

Comments/Protests Due: 5 p.m. ET 9/30/16.

Docket Numbers: RP16-1234-000.

Applicants: Anadarko Energy Services Company.

Description: Petition for Temporary Waivers of Capacity Release Regulations and Policies, Request for Shortened Comment Period and Expedited Treatment of Anadarko Energy Services Company under RP16-1234.

Filed Date: 9/8/16.

Accession Number: 20160908-5232.

Comments Due: 5 p.m. ET 9/15/16.

Docket Numbers: RP16-1235-000.

Applicants: Equitrans, L.P.

Description: Section 4(d) Rate Filing: Assignment of Anja Resources Agreement to TAPO Energy to be effective 9/1/2016.

Filed Date: 9/9/16.

Accession Number: 20160909-5174.

Comments Due: 5 p.m. ET 9/21/16.

Docket Numbers: RP16-1236-000.

Applicants: Southern Star Central Gas Pipeline, Inc.

Description: Section 4(d) Rate Filing: LINN—Satanta to Jayhawk Filing to be effective 9/20/2016.

Filed Date: 9/9/16.

Accession Number: 20160909-5196.

Comments Due: 5 p.m. ET 9/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2016.
Nathaniel J. Davis, Sr.,
Deputy Secretary.

[FR Doc. 2016-22641 Filed 9-20-16; 8:45 am]

BILLING CODE 6717-01-P